DEPARTMENT OF ENERGY

Federal Energy Regulatory Commission

[Docket No. AD14-19-000]

Commissioner Philip D. Moeller's Inquiry Into the Trading of Natural Gas, and the Proposal To Establish an Electronic Information and Trading Platform; Post-Meeting Notice

On September 18, 2014, Commissioner Philip D. Moeller convened a meeting to discuss ideas to facilitate and improve the way in which natural gas is traded, and explore the concept of establishing a centralized information and trading platform for natural gas.

As announced at the meeting, the above-captioned docket was created to allow interested parties to file written comments on any issue that was discussed at the meeting. The Commission strongly encourages electronic filings of comments in lieu of paper using the “eFiling” link at www.ferc.gov. Persons unable to file electronically should submit an original and 5 copies of the comment to the Federal Energy Regulatory Commission, 888 First Street NE., Washington, DC 20426. Additionally, comments are strictly limited to no more than five (5) pages and due by October 1, 2014.

Dated: September 19, 2014.
Nathaniel J. Davis, Sr.,
Deputy Secretary.

[FR Doc. 2014-23211 Filed 9-29-14; 8:45 am]

BILLING CODE 6717-01-P